DEPARTMENT OF HEALTH AND HUMAN SERVICES

National Institutes of Health

Center for Scientific Review; Amended Notice of Meeting

Notice is hereby given of a change in the meeting of the Center for Scientific Review Special Emphasis Panel, April 8, 2005, 10:30 a.m. to April 8, 2005, 12 p.m., The Watergate, 2650 Virginia Avenue, NW., Washington, DC 20037 which was published in the Federal Register on March 16, 2005, 70 FR 12892-12894.

The time of the meeting on April 8, 2005 has been changed to 9 a.m. to 10:30 a.m. The meeting date and location remain the same. The meeting is closed to the public.

Dated: March 22, 2005.
LaVerne Y. Stringfield,
Director, Office of Federal Advisory Committee Policy.

[FR Doc. 05-6213 Filed 3-29-05; 8:45 am]

BILLING CODE 4140-01-M